DEPARTMENT OF TRANSPORTATION

Federal Aviation Administration

Notice of Intent of Waiver With Respect to Land; Fort Wayne International Airport, Fort Wayne, IN

AGENCY: Federal Aviation Administration (FAA), DOT.

ACTION: Notice.

SUMMARY: The FAA is considering a proposal to change 70 acres of airport land from aeronautical use to non-aeronautical use of airport property located at Fort Wayne International, Fort Wayne, IN. The aforementioned land is not needed for aeronautical use.

Fort Wayne International Airport (FWA) proposes to release approximately 70 acres of land located on the northwest corner of existing airport property. The land is located to the southwest of the intersection of Smith Road and the Airport Expressway. The land to be released is comprised of Tract 5 and Tract 6 as described in the survey. The land is owned by the Fort Wayne-Allen County Airport Authority (FWACAA). The property was originally purchased for the purpose of economic development and to enable the Authority to ensure airport compatible development. The Sponsor is proposing to release and ultimately sell or lease these parcels per local zoning regulations. The proposed future use of the land will be for compatible commercial or industrial developments. The sale of these parcels would allow the Sponsor to further financially support airfield improvement projects. Of the tracts proposed for release, none were acquired with FAA Funding.

DATES: Comments must be received on or before April 23, 2018.

ADDRESSES: Documents are available for review by appointment at the FAA Chicago Airports District Office, Rob Esquivel, Chicago Airports District Office, 2300 East Devon Avenue, Des Plaines, IL 60018, Telephone: (847) 294-7340/Fax: (847) 294-7046 and Fort Wayne Allen County Airport Authority, 3801 W. Ferguson Rd., Ste. 209, Fort Wayne, IN 46809, Telephone: (260) 446-3428.

Written comments on the Sponsor's request must be delivered or mailed to: Rob Esquivel, Program Manager, Federal Aviation Administration, Chicago Airports District Office, 2300 East Devon, Ste. 312, Des Plaines, IL 60018, Telephone: (847) 294-7340/Fax: (847) 294-7046.

FOR FURTHER INFORMATION CONTACT: Rob Esquivel, Program Manager, Federal Aviation Administration, Chicago Airports District Office, 2300 East Devon, Ste. 312, Des Plaines, IL 60018, Telephone: (847) 294-7340/Fax: (847) 294-7046.

SUPPLEMENTARY INFORMATION: In accordance with section 47107(h) of Title 49, United States Code, this notice is required to be published in the Federal Register 30 days before modifying the land-use assurance that requires the property to be used for an aeronautical purpose.

The land is owned by the Fort Wayne-Allen County Airport Authority (FWACAA). The property was originally purchased for the purpose of economic development and to enable the Authority to ensure airport compatible development. The Sponsor is proposing to release and ultimately sell or lease these parcels per local zoning regulations. The proposed future use of the land will be for compatible commercial or industrial developments.

The disposition of proceeds from the sale of the airport property will be in accordance with FAA's Policy and Procedures Concerning the Use of Airport Revenue, published in the Federal Register on February 16, 1999 (64 FR 7696).

This notice announces that the FAA is considering the release of the subject airport property at the Fort Wayne International Airport, Fort Wayne, IN from federal land covenants, subject to a reservation for continuing right of flight as well as restrictions on the released property as required in FAA Order 5190.6B section 22.16. Approval does not constitute a commitment by the FAA to financially assist in the disposal of the subject airport property nor a determination of eligibility for grant-in-aid funding from the FAA.

Legal Description: Tract 5—66.008 Acres

Part of the Fractional Northeast Quarter and Southeast Quarter of Section 6, Township 29 North, Range 12 East of the Second Principal Meridian, Pleasant Township in Allen County, Indiana, more particularly described as follows:

Commencing at a ⅝″ steel bar marking the Northwest corner of said Northeast Quarter; thence South 00 degrees 47 minutes 23 seconds East (GPS Grid bearing and basis of bearings to follow), a distance of 1,929.38 feet along the West line of said Northeast Quarter to a ⅝″ steel rebar with a “Miller Firm #0095” identification cap set on the South right-of-way line of Airport Expressway, said point being the POINT OF BEGINNING of the herein described tract; thence North 88 degrees 37 minutes 26 seconds East, a distance of 178.59 feet along said right-of-way line; thence South 89 degrees 33 minutes 41 seconds East, a distance of 180.08 feet along said right-of-way line; thence Northeasterly along a on tangent curve, concave to the Northwest, having a radius of 1,747.02 feet, a central angle of 26 degrees 15 minutes 00 seconds, and a chord of 793.41 feet bearing North 69 degrees 35 minutes 07 seconds East to a ⅝″ steel rebar with a “Miller Firm #0095” identification cap set on the Southwesterly right-of-way line of Smith Road; thence South 52 degrees 12 minutes 02 seconds East, a distance of 68.61 feet along said right-of-way line; thence South 43 degrees 27 minutes 45 seconds East, a distance of 460.00 feet (deed); thence South 42 degrees 38 minutes 39 seconds East, a distance of 350.04 feet (deed) along said right-of-way line; thence South 45 degrees 32 minutes 42 seconds East, a distance of 550.36 feet (deed) along said right-of-way line; thence South 43 degrees 27 minutes 45 seconds East, a distance of 392.14 feet (deed) along said right-of-way line; thence South 35 degrees 45 minutes 29 seconds East, a distance of 116.60 feet (deed) along said right-of-way line to a point, said point being referenced by a ½″ steel rebar found 0.24 feet East; thence South 88 degrees 46 minutes 59 seconds West, a distance of 517.79 feet to a ½″ steel rebar; thence South 00 degrees 53 minutes 54 seconds East, a distance of 289.82 feet to a ½″ steel rebar found on the South line of the North Half of said Southeast Quarter; thence South 88 degrees 48 minutes 05 seconds West, a distance of 1,907.86 feet along said South line to a ⅝″ steel rebar with a “Miller Film #0095” identification cap set on the West line of said Southeast Quarter; thence North 00 degrees 47 minutes 23 seconds West, a distance of 1,311.74 feet along said West line to a stone found at the center of said Section 6; thence North 00 degrees 47 minutes 23 seconds West, a distance of 147.52 feet along the West line of said Northeast Quarter to the Point of Beginning. Containing 66.008 Acres, more or less. Subject to easements of record.

Legal Description: Tract 6—3.997 Acres

Part of the Southeast Quarter of Section 6, Township 29 North, Range 12 East of the Second Principal Meridian, Pleasant Township in Allen County, Indiana, more particularly described as follows:

Commencing at a ⅝″ steel bar marking the Northwest corner of said Northeast Quarter; thence South 00 degrees 47 minutes 23 seconds East (GPS Grid bearing and basis of bearings to follow), a distance of 3,388.65 feet along the West line of the Northeast Quarter of said Section 6 and along the West line of said Southeast Quarter to a ⅝″ steel rebar with a “Miller Firm #0095” identification cap set on the South line of the North Half of said Southeast Quarter; thence North 88 degrees 48 minutes 05 seconds East, a distance of 1,907.86 feet along said South line to a ½″ steel rebar set at the POINT OF BEGINNING of the herein described tract; thence North 00 degrees 53 minutes 54 seconds West, a distance of 289.82 feet to a ½″ steel rebar; thence North 88 degrees 46 minutes 59 seconds East, a distance of 517.79 feet to a point on the Southwesterly right-of-way line of Smith Road, said point being referenced by a ½″ steel rebar found 0.24 feed East; thence South 35 degrees 45 minutes 29 seconds East, a distance of 77.34 feet (deed) along said right-of-way line; thence South 28 degrees 02 minutes 01 seconds East, a distance of 187.36 feet (deed) along said right-of-way line; thence South 14 degrees 30 minutes 02 seconds East, a distance of 60.74 feet along said right-of-way line to a ½′ steel rebar found on the South line of the North Half of said Southeast Quarter; thence South 88 degrees 47 minutes 52 seconds West, a distance of 661.74 feet along said South line to the Point of Beginning. Containing 3.997 Acres, more or less. Subject to easements of record.

Issued in Des Plaines, IL, on March 15, 2018.
Deb Bartell,
Manager, Chicago Airports District Office, FAA, Great Lakes Region.

[FR Doc. 2018-05888 Filed 3-22-18; 8:45 am]

BILLING CODE 4910-13-P